DEPARTMENT OF THE INTERIOR

Bureau of Reclamation

Marina Coast Water District Recycled Water Pipeline Project

AGENCY: Bureau of Reclamation, Interior.

ACTION: Notice of intent to prepare an environmental document (Environmental Impact Report/Environmental Assessment or Environmental Impact Statement).

SUMMARY: Pursuant to Section 102(2)(C) of the National Environmental Policy Act (NEPA) of 1969, and § 21061 of the California Environmental Quality Act (CEQA), the Bureau of Reclamation (Reclamation) and the Marina Coast Water District (MCWD) propose to prepare an environmental document on constructing a new pipeline to deliver reclaimed wastewater for municipal and industrial use. The reclaimed water would be supplied by the Monterey Regional Water Pollution Control Agency (MRWPCA) as part of the Castroville Seawater Intrusion Project and the Salinas Valley Reclamation Project (SVRP) that currently provides agricultural users with recycled water to reduce use of groundwater in the Salinas Valley. The project is planned in order to provide up to 300 acre-feet/year of recycled water from the SVRP for municipal and industrial uses which may include a golf course, open space landscaping, and construction water uses.

At present, it is not clear whether the scope of the action and anticipated project impacts will require preparation of an environmental impact report/environmental impact statement (EIR/EIS) instead of an environmental impact report/environmental assessment (EIR/EA). However, to ensure the timely and appropriate level of NEPA compliance and to limit potential future delays to the project schedule, Reclamation is proceeding as if the project impacts would require preparation of an EIR/EA. Reclamation will reevaluate the need for an EIR/EIS after obtaining written comments on the project scope, alternatives, and environmental impacts and after Reclamation's evaluation of potential impacts of the proposed project. Reclamation will publish a notice of change if a decision is made to prepare an EIR/EIS rather than an EIR/EA. However, the scoping process to be conducted will suffice for either course of action.

MCWD completed a CEQA Notice of Preparation on December 15, 1999. No scoping meetings have been scheduled.

DATES: Send any comments to assist in determining the scope of the environmental analysis and to identify the significant issues related to this proposed action to the address below by April 28, 2000.

ADDRESSES: Written comments on the scope of the environmental document should be sent to Dave Meza, Marina Coast Water District, 200 Twelfth Street, Building 2788, Marina CA 93933.

Our practice is to make comments, including names and home addresses of respondents, available for public review. Individual respondents may request that we withhold their home address from public disclosure, which we will honor to the extent allowable by law. There also may be circumstances in which we would withhold a respondent's identity from public disclosure, as allowable by law. If you wish us to withhold your name and/or address, you must state this prominently at the beginning of your comment. We will make all submissions from organizations or businesses, and from individuals identifying themselves as representatives or officials of organizations or businesses, available for public disclosure in their entirety.

FOR FURTHER INFORMATION CONTACT: Dave Meza, Marina Coast Water District, at (831) 582-2665.

SUPPLEMENTARY INFORMATION: Reclamation provided a loan to the MRWPCA for construction of the SVRP. Reclamation completed an EIS on the SVRP in 1993 for construction of the SVRP, and delivery of reclaimed water as an agricultural supply for crop irrigation. The contract for the loan specified that reclaimed water from the SVRP could also be delivered for municipal and industrial water only if Reclamation completed additional NEPA documentation. The SVRP began operation in 1997, and began delivering recycled water to growers in 1998. In 1999, the SVRP produced 10,000 acre-feet of recycled water. The SVRP can produce up to about 33,200 acre-feet of reclaimed water per year.

The proposed action would consist of the following:

1. At the SVRP site, two 75-hp vertical turbine pumps would be installed at the SVRP contact basin. Approximately 850 linear feet (LF) of 24-inch pipeline would be installed from the pumps to the edge of the SVRP boundary.

2. From the edge of the SVRP boundary, approximately 4,300 LF of 12-inch pipeline would be installed above ground along an existing dirt service road that extends to the Armstrong Ranch boundary.

3. From the Armstrong Ranch boundary, approximately 10,000 LF of 30-inch pipeline would be installed along a route through the City of Marina Municipal Airport to Reservation Road with various water service turnouts.

The proposed project has design elements that could become part of a regional system, if that system were ever to be expanded. The feasibility of such a regional system, the regional urban recycled water distribution project, is currently being studied. This system would require a storage reservoir as outlined in the 1996 Annexation Agreement and Groundwater Mitigation Framework for Marina Area Lands (1996). In addition, other elements of the regional project are not clearly defined. These elements are discussed in the 1996 Monterey Peninsula Reclaimed Water Urban Reuse Feasibility Study Update as developed by the MRWPCA. The planning effort for a regional urban distribution system may serve sites within the Cities of Marina, Seaside, Del Rey Oaks, Sand City, and Monterey. Additional environmental documentation would be necessary to implement this regional system.

Dated: March 22, 2000.
Frank Michny,
Regional Environmental Officer.

[FR Doc. 00-7704 Filed 3-28-00; 8:45 am]

BILLING CODE 4310-94-P